FEDERAL RETIREMENT THRIFT INVESTMENT BOARD

Sunshine Act Meeting

TIME AND DATE: 10 a.m. (EDT) July 15, 2002.

PLACE: 4th Floor, Conference Room, 1250 H Street, N.W., Washington, DC.

STATUS: Parts will be open to the public and part closed to the public.

MATTERS TO BE CONSIDERED:

Parts Open to the Public

1. Approval of the minutes of the June 17, 2002, Board member meeting.

2. Thrift Savings Plan activity report by the Executive Director (with discussion of litigation to be closed to the public).

Part Closed to the Public

Discussion of litigation.

CONTACT PERSON FOR MORE INFORMATION: Thomas J. Trabucco, Director, Office of External Affairs, (202) 942-1640.

Dated: July 2, 2002.
Elizabeth S. Woodruff,
Secretary to the Board, Federal Retirement Thrift Investment Board.

[FR Doc. 02-17013 Filed 7-2-02; 2:14 pm]

BILLING CODE 6760-01-M